DEPARTMENT OF ENERGY

Federal Energy Regulatory Commission

[Docket No. EL02-51-000]

California Electricity Oversight Board, Complainant, v. Williams Energy Services Corporation, AES Huntington Beach LLC, AES Alamitos LLC, AES Redondo Beach LLC, Mirant Americas Energy Marketing L.P., Mirant Delta LLC, Reliant Energy Services, Inc., Reliant Energy Coolwater LLC, Reliant Energy Etiwanda LLC, Reliant Energy Mandalay LLC, Reliant Energy Ormand Beach LLC, Dynegy Power Marketing, Inc., Encina Power LLC, Calpine Corporation, Geysers Power Company LLC, Southern California Edison Company, All Other Public and Non-Public Utilities Who Own or Control Generation in California and Who Sell Through the Markets or Use the Transmission Lines Operated by the California Independent System Operator Corporation, and All Scheduling Coordinators Acting on Behalf of the Above Entities, Respondents; Notice of Complaint

January 17, 2002.

Please take notice that on January 14, 2002, the California Electricity Oversight Board (Board) tendered for filing a Complaint alleging that Respondents are submitting unjust and unreasonable bids for decremental energy in the real-time Supplemental Energy market operated by the California Independent System Operator Corporation (CAISO) such that the resulting wholesale electricity rates are unjust and unreasonable. The Board urges the Federal Energy Regulatory Commission (Commission) to issue an immediate cease and desist order, to impose a “must-offer” obligation on generators to submit to the CAISO marginal cost based decremental bids until demonstrable evidence exists that California's wholesale electricity markets are workably competitive, and to take such other action as the Commission deems appropriate.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before February 5, 2002. Protests will be considered by the Commission in determining the appropriate action to be taken, but will not serve to make protestants parties to the proceeding. Any person wishing to become a party must file a motion to intervene. Answers to the complaint shall also be due on or before February 5, 2002. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 02-1730 Filed 1-23-02; 8:45 am]

BILLING CODE 6717-01-P